DEPARTMENT OF DEFENSE

Office of the Secretary of Defense

Meeting of the President's Information Technology Advisory Committee (PITAC), Formerly the Presidential Advisory Committee on High Performance Computing and Communications, Information Technology, and the Next Generation Internet

AGENCY: DoD.

ACTION: Notice of meeting.

SUMMARY: This notice sets forth the schedule and summary agenda for the next meeting of the President's Information Technology Advisory Committee. The meeting will be open to the public. Notice of this meeting is required under the Federal Advisory Committee Act (Pub. L. 92-463).

DATES: May 10 and 11, 2001.

ADDRESSES: National Science Foundation, Room 555, 4121 Wilson Boulevard, Arlington, VA 22230.

Proposed Schedule and Agenda: The President's Information Technology Advisory Committee will meet in open session from approximately 3 p.m.-5 p.m. on May 10 and 8 a.m.-1 p.m. on May 11, 2001.

The tentative meeting agenda includes discussion of agency response to PITAC advice and the future demands information technology research and development will need to support the following areas:

1. Software;

2. Scalable Infrastructure;

3. High Performance Computing;

4. Societal Issues.

FOR FURTHER INFORMATION CONTACT: The National Coordination Office for Information Technology Research and Development, formerly the National Coordination Office for Computing, Information, and Communications, provides information about the PITAC on its website at www.itrd.gov and can be reached by phone at (703) 292-4873. Public seating for this meeting is limited and is available on first come and first served basis.

Dated: April 16, 2001.
L.M. Bynum,
Alternate OSD Federal Register Liaison Officer, Department of Defense.

[FR Doc. 01-9828 Filed 4-19-01; 8:45 am]

BILLING CODE 5001-01-M